DEPARTMENT OF LABOR

Office of the Secretary

Submission for OMB Review; Comment Request

October 31, 2002.

The Department of Labor (DOL) has submitted the following public information collection request (ICR) to the Office of Management and Budget (OMB) for review and approval in accordance with the Paperwork Reduction Act of 1995 (Pub. L. 104-13, 44 U.S.C. chapter 35). A copy of each individual ICR, with applicable supporting documentation, may be obtained by calling the Department of Labor. To obtain documentation contact Marlene Howze at (202) 693-4158 or Email Howze-Marlene@dol.gov.

Comments should be sent to office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: New collection.

Agency: Employment Standards Administration (ESA).

Title: Alternate Employment Information Request.

OMB Number: 1215-0NEW.

Affected Public: Business or other for-profit and not-for-profit institutions.

Frequency: As needed.

Number of Respondents: 100.

Number of Annual Reponses: 2,000.

Estimated Time Per Response: 30 minutes.

Total Burden Hours: 1,000.

Total Annualized Capital/Startup Costs: $0.

Total Annual Costs (operating/maintaining systems or purchasing services): $0.

Description: The Energy Employees Occupational Illness Compensation Program Act of 2000, as amended (EEOICPA or Act), 42 U.S.C. 7384 et seq., established a program to provide compensation to covered employees and, where applicable, survivors of such employees, suffering from illnesses incurred in the performance of duty for the Department of Energy (DOE) and certain of its contractors, subcontractors and vendors. When the DOE is unable to verify employment history to establish benefit eligibility, section 7384d(a) of the Act gives the Office of Workers Compensation (OWCP) legal authority to request employment information from private entities who are not current contractors or subcontractors of DOE and who have voluntarily agreed to respond to such requests. Section 7384v(c) of the Act gives OWCP legal authority to make these same requests to current DOER contractors and subcontractors. This information collection request will use a variety of methods to contract designated respondents and will accept information responses via e-mail, telephone, Fax or mail.

Ira L. Mills,
Departmental Clearance Officer.

[FR Doc. 02-28929 Filed 11-13-02; 8:45 am]

BILLING CODE 4510-CH-M